DEPARTMENT OF COMMERCE

Submission for OMB Review; Comment Request

DOC has submitted to the Office of Management and Budget (OMB) for clearance the following proposal for collection of information under the provisions of the Paperwork Reduction Act (44 U.S.C. chapter 35).

Agency: Census Bureau.

Title: Pollution Abatement Costs and Expenditures (PACE) Survey.

Agency Form Number(s): MA-200.

OMB Approval Number: 0607-0176.

Type of Request: Reinstatement, with change, of an expired collection.

Burden Hours: 160,000 hours.

Number of Respondents: 20,000.

Average Hours Per Response: 8 hours.

Needs and Uses: The Pollution Abatement Costs and Expenditures (PACE) Survey was conducted annually prior to 1995 but suspended due to Census Bureau budget limitations. The PACE Survey provided measures of the cost to private industry for the Nation's commitment to protecting the environment. This survey is an essential source of data for monitoring the impact of environmental programs on the U.S. economy and responsiveness to these programs. The absence of the data over the past 4 years has highlighted the need for measures of private industry spending on pollution abatement activities. With support from the EPA, the Census Bureau proposes to reinstate this survey.

The survey will collect information similar to that previously collected: Pollution abatement expenditures, operating costs for pollution abatement, each by media, air pollution control, water pollution control and multi-media, and waste disposal. In addition, the survey will include the nature of the costs incurred, distinguishing between prevention and treatment. The survey will include approximately 20,000 establishments selected to represent manufacturing, mining and electric utilities industries defined by the North American Industry Classification System (NAICS) with emphasis on industries most heavily involved in pollution abatement activities. The survey sample will also include representation of establishments in the apparel and textile industry and manufacturing establishments with less than 20 employees. These groups had been excluded from the earlier survey design under the assumption that they contributed little or nothing to the estimates. Representation from these groups will be used to confirm the assumption.

The EPA will use the data to monitor the impact of environmental programs and to estimate cost projections for its regulatory impact analysis for proposed pollution regulations. Capital expenditures for pollution abatement is an important component of total capital expenditures when analyzing investment and productivity at the Bureau of Labor Statistics and the Bureau of Economic Analysis. State and local governments, trade associations, the academic community, and private businesses will use the data to evaluate regional pollution abatement spending, local legislation, and performance of specific industries.

Affected Public: Businesses or other for-profit organizations.

Frequency: Annually.

Respondent's Obligation: Mandatory.

OMB Desk Officer: Susan Schechter, (202) 395-5103.

Copies of the above information collection proposal can be obtained by calling or writing Linda Engelmeier, DOC Forms Clearance Officer, (202) 482-3272, U.S. Department of Commerce, Room 5027, 14th and Constitution Avenue, NW, Washington, DC 20230 (or via the Internet at LEngelme@doc.gov).

Written comments and recommendations for the proposed information collection should be sent within 30 days of publication of this notice to Susan Schechter, OMB Desk Officer, Room 10201, New Executive Office Building, Washington, DC 20503.

Dated: February 1, 2000.
Linda Engelmeier,
Departmental Forms Clearance Officer, Office of the Chief Information Officer.

[FR Doc. 00-2963 Filed 2-8-00; 8:45 am]

BILLING CODE 3510-07-P